EXECUTIVE OFFICE OF THE PRESIDENT

Office of National Drug Control Policy

Designation of Three High Intensity Drug Trafficking Areas

AGENCY: Office of National Drug Control Policy, Executive Office of the President.

ACTION: Notice of HIDTA designations.

SUMMARY: The Director of the Office of National Drug Control Policy designated three areas as High Intensity Drug Trafficking Areas (HIDTA) pursuant to 21 U.S.C. 1706. These areas are the First, Third, and Fourth Judicial Districts of Alaska.

FOR FURTHER INFORMATION CONTACT: Questions regarding this notice should be directed to Michael K. Gottlieb, National HIDTA Program Director, Office of National Drug Control Policy, Executive Office of the President, Washington, DC 20503; (202) 395-4868.

Dated: May 1, 2018.
Michael J. Passante,
Acting General Counsel.

[FR Doc. 2018-09567 Filed 5-4-18; 8:45 am]

BILLING CODE 3280-F5-P